ENVIRONMENTAL PROTECTION AGENCY

[FRL-8492-9]

Proposed Administrative Cost Recovery Settlement Under Section 122(h) of the Comprehensive Environmental Response Compensation and Liability Act, as Amended, 42 U.S.C. 9622(h), Part of PCB Treatment Inc. Superfund Site

AGENCY: Environmental Protection Agency (EPA).

ACTION: Notice; request for public comment.

SUMMARY: In accordance with Section 122(i) of the Comprehensive Environmental Response Compensation and Liability Act, as amended (CERCLA), 42 U.S.C. 9622(i), notice is hereby given of a proposed administrative settlement with Anthony Prunsky for recovery of past response costs concerning part of the PCB Treatment Inc. Superfund Site located at 45 Ewing Street, Wyandotte County, Kansas City, Kansas, also known as the Unified Government of Wyandotte County/Kansas City, Kansas. The settlement requires Mr. Prunsky to pay to the Hazardous Substance Superfund the Net Sale Proceeds it receives through the sale of the 45 Ewing Street Property ($62,000) less the closing costs, taxes owed to Unified Government of Wyandotte County/Kansas City, Kansas and attorneys fees. The settlement requires Mr. Prunsky to pay $5000.00 to the Hazardous Substance Superfund. The settlement includes a covenant not to sue the settling parties pursuant to Section 107(a) of CERCLA, 42 U.S.C. 9607(a). For thirty (30) days following the date of publication of this notice, the Agency will receive written comments relating to the settlement. The Agency will consider all comments and may modify or withdraw its consent to the settlement if comments received disclose facts or considerations which indicate that the settlement is inappropriate, improper, or inadequate. The Agency's response to any comments received will be available for public inspection at the EPA Region VII office located at 901 N. 5th Street, Kansas City, Kansas.

DATES: Comments must be submitted on or before December 7, 2007.

ADDRESSES: The proposed settlement is available for public inspection at the EPA Region VII office, 901 N. 5th Street, Kansas City, Kansas, Monday through Friday, between the hours of 7 a.m. through 5 p.m. A copy of the proposed settlement may be obtained from the Regional Hearing Clerk, 901 N. 5th Street, Kansas City, Kansas, (913) 551-7567. Comments should reference the PCB Treatment, Inc. Superfund Site, EPA Docket No.07-2007-0009 and should be addressed to Audrey Asher, Senior Assistant Regional Counsel, 901 N. 5th Street, Kansas City, Kansas 66101.

FOR FURTHER INFORMATION CONTACT: Audrey Asher at telephone: (913) 551-7255; fax number: (913) 551-7925; E-mail address: asher.audrey@epa.gov.

Dated: October 23, 2007.
Cecilia Tapia,
Director, Superfund Division, Region VII.

[FR Doc. E7-21894 Filed 11-6-07; 8:45 am]

BILLING CODE 6560-50-P